DEPARTMENT OF ENERGY

Federal Energy Regulatory Commission

Combined Notice of Filings #1

Take notice that the Commission received the following electric corporate filings:

Docket Numbers: EC26-27-000.

Applicants: Westside Canal 2A, LLC, San Diego Gas & Electric Company.

Description: Joint Application for Authorization Under Section 203 of the Federal Power Act of San Diego Gas & Electric Company, et al.

Filed Date: 11/6/25.

Accession Number: 20251106-5149.

Comment Date: 5 p.m. ET 11/28/25.

Take notice that the Commission received the following electric rate filings:

Docket Numbers: ER15-1418-027; ER10-1852-119; ER10-1890-033; ER10-1951-092; ER10-1962-033; ER19-1076-018; ER11-2160-033; ER19-1073-017; ER11-4462-115; ER11-4677-034; ER11-4678-033; ER12-199-025; ER12-631-034; ER12-2444-032; ER13-1991-039; ER13-1992-039; ER13-2112-028; ER15-1016-026; ER15-1375-027; ER15-1883-027; ER15-2243-024; ER15-2477-026; ER16-90-026; ER16-91-026; ER16-632-026; ER16-2443-023; ER17-582-025; ER17-583-025; ER17-838-089; ER17-2340-023; ER20-819-020; ER20-820-019; ER20-2695-018; ER21-1580-015; ER21-2294-016; ER21-2304-015; ER22-415-014; ER22-1370-014; ER22-2824-013; ER23-147-010; ER23-148-010; ER23-1208-008; ER23-1541-008; ER23-1542-008; ER23-1543-008; ER24-34-009; ER24-136-010; ER24-359-008; ER24-818-007; ER24-827-007; ER25-67-003; ER25-109-005; ER25-1232-005; ER16-1509-006; ER25-2690-001; ER25-3270-001; ER25-3271-003; ER25-3272-001; ER25-3273-001; ER25-3274-001; ER25-3275-001; ER25-3276-001; ER25-3277-001; ER25-3278-001.

Applicants: Yellow Pine Solar Interconnect II, LLC, Yellow Pine Solar III, LLC, Roadhouse Energy Storage, LLC, Grace Orchard Solar Interconnection, LLC, Grace Orchard Solar III, LLC, Desert Sands Energy Center, LLC, Desert Sands Energy Storage II, LLC, Desert Sands Energy Storage I, LLC, Corby Energy Storage, LLC, Key Energy Storage, LLC, New Wave Energy Corp, Kola Energy Storage, LLC, Silver State South Storage, LLC, Grace Orchard Solar II, LLC, Grace Orchard Energy Center, LLC, Yellow Pine Solar II, LLC, Crow Creek Solar, LLC, Sunlight Storage II, LLC, Proxima Solar, LLC, Desert Peak Energy Storage II, LLC, Desert Peak Energy Storage I, LLC, Desert Peak Energy Center, LLC, North Central Valley Energy Storage, LLC, Resurgence Solar II, LLC, Resurgence Solar I, LLC, Yellow Pine Solar, LLC, Sunlight Storage, LLC, Arlington Energy Center III, LLC, Arlington Solar, LLC, Arlington Energy Center II, LLC, Sky River Wind, LLC, Mohave County Wind Farm LLC, Blythe Solar IV, LLC, Blythe Solar III, LLC, Golden Hills North Wind, LLC, NextEra Energy Marketing, LLC, Whitney Point Solar, LLC, Westside Solar, LLC, NextEra Blythe Solar Energy Center, LLC, Blythe Solar II, LLC, Blythe Solar 110, LLC, Golden Hills Interconnection, LLC, Golden Hills Wind, LLC, Silver State Solar Power South, LLC, Adelanto Solar, LLC, McCoy Solar, LLC, Shafter Solar, LLC, Genesis Solar, LLC, Desert Sunlight 300, LLC, Desert Sunlight 250, LLC, North Sky River Energy, LLC, Windpower Partners 1993, LLC, Coram California Development, L.P., Vasco Winds, LLC, NextEra Energy Montezuma II Wind, LLC, NEPM II, LLC, Alta Wind VIII, LLC, FPL Energy Montezuma Wind, LLC, Windstar Energy, LLC, High Winds, LLC, NextEra Energy Services Massachusetts, LLC, FPL Energy Green Power Wind, LLC, Florida Power & Light Company, Adelanto Solar II, LLC.

Description: Notice of Change in Status of Adelanto Solar II, LLC, et al.

Filed Date: 10/31/25.

Accession Number: 20251031-5415.

Comment Date: 5 p.m. ET 11/21/25.

Docket Numbers: ER21-1807-008.

Applicants: Hill Top Energy Center LLC.

Description: Hill Top Energy Center LLC submits informational filing in anticipation of a proposed transaction that will change the upstream ownership.

Filed Date: 9/26/25.

Accession Number: 20250926-5207.

Comment Date: 5 p.m. ET 10/17/25.

Docket Numbers: ER24-1868-003.

Applicants: El Paso Electric Company.

Description: Compliance filing: OATT Revisions—Attachment M to be effective 6/3/2024.

Filed Date: 11/4/25.

Accession Number: 20251104-5134.

Comment Date: 5 p.m. ET 11/14/25.

Docket Numbers: ER26-312-001.

Applicants: Arlington Valley Solar Energy, LLC.

Description: Tariff Amendment: SFA Concurrence Amendment to be effective 10/30/2025.

Filed Date: 11/7/25.

Accession Number: 20251107-5117.

Comment Date: 5 p.m. ET 11/28/25.

Docket Numbers: ER26-409-001.

Applicants: Wisconsin Power and Light Company.

Description: Tariff Amendment: Amendment of Wisconsin Power and Light Under Docket No. ER26-409-000 to be effective 1/1/2025.

Filed Date: 11/7/25.

Accession Number: 20251107-5101.

Comment Date: 5 p.m. ET 11/28/25.

Docket Numbers: ER26-442-000.

Applicants: PJM Interconnection, L.L.C.

Description: 205(d) Rate Filing: Original WMPA, Service Agreement No. 7764; NC-005 to be effective 12/31/9998.

Filed Date: 11/6/25.

Accession Number: 20251106-5138.

Comment Date: 5 p.m. ET 11/28/25.

Docket Numbers: ER26-443-000.

Applicants: American Transmission Systems, Incorporated.

Description: 205(d) Rate Filing: ATSI submits One Amended Construction Agmnt, SA No. 6940 to be effective 1/7/2026.

Filed Date: 11/7/25.

Accession Number: 20251107-5019.

Comment Date: 5 p.m. ET 11/28/25.

Docket Numbers: ER26-444-000.

Applicants: American Electric Power Service Corporation.

Description: Request for Limited Waiver and Expedited Consideration of American Electric Power Service Corporation.

Filed Date: 11/6/25.

Accession Number: 20251106-5153.

Comment Date: 5 p.m. ET 11/28/25.

Docket Numbers: ER26-445-000.

Applicants: Alabama Power Company.

Description: Petition for Approval of Uncontested Settlement Agreement and Request for Expedited Consideration of Alabama Power Company on behalf of itself and the Southeast Energy Exchange Market Members.

Filed Date: 11/7/25.

Accession Number: 20251107-5065.

Comment Date: 5 p.m. ET 11/28/25.

Docket Numbers: ER26-446-000.

Applicants: Southern California Edison Company.

Description: 205(d) Rate Filing: 2nd Amended LGIA, Athos, TOT849, SA 227, & eTariff Removal to be effective 11/8/2025.

Filed Date: 11/7/25.

Accession Number: 20251107-5072.

Comment Date: 5 p.m. ET 11/28/25.

Docket Numbers: ER26-447-000.

Applicants: Public Service Company of Colorado.

Description: 205(d) Rate Filing: 2025-11-07—PSC-BEPC—Tariff Mngmt and Tagging Srvcs Agrmt-891-0.0.0 to be effective 12/1/2025.

Filed Date: 11/7/25.

Accession Number: 20251107-5077.

Comment Date: 5 p.m. ET 11/28/25.

Docket Numbers: ER26-448-000.

Applicants: Mitsui Bussan Commodities, Ltd.

Description: 205(d) Rate Filing: Normal filing 2025 to be effective 11/8/2025.

Filed Date: 11/7/25.

Accession Number: 20251107-5081.

Comment Date: 5 p.m. ET 11/28/25.

Docket Numbers: ER26-449-000.

Applicants: PJM Interconnection, L.L.C.

Description: 205(d) Rate Filing: Amendment to WMPA, Service Agreement No. 4173; Queue No. Z1-066 to be effective 1/7/2026.

Filed Date: 11/7/25.

Accession Number: 20251107-5083.

Comment Date: 5 p.m. ET 11/28/25.

Docket Numbers: ER26-450-000.

Applicants: Public Service Company of New Mexico.

Description: 205(d) Rate Filing: Second Revised Incremental Transmission Service Agreements to be effective 11/1/2025.

Filed Date: 11/7/25.

Accession Number: 20251107-5085.

Comment Date: 5 p.m. ET 11/28/25.

Docket Numbers: ER26-451-000.

Applicants: Black Hills Power, Inc.

Description: 205(d) Rate Filing: Revisions to Rate Schedule No. 10 to be effective 1/7/2026.

Filed Date: 11/7/25.

Accession Number: 20251107-5096.

Comment Date: 5 p.m. ET 11/28/25.

Docket Numbers: ER26-452-000.

Applicants: Southwestern Public Service Company, Southwest Power Pool, Inc.

Description: 205(d) Rate Filing: Southwestern Public Service Company submits tariff filing per 35.13(a)(2)(iii: 4513 Thalia Solar & SPS Facilities Service Ag to be effective 1/7/2026.

Filed Date: 11/7/25.

Accession Number: 20251107-5102.

Comment Date: 5 p.m. ET 11/28/25.

Docket Numbers: ER26-453-000.

Applicants: Gen IV Investment Opportunities, LLC.

Description: Initial Rate Filing: Application for Market-Based Rate Authorization, Request for Related Waivers to be effective 1/7/2026.

Filed Date: 11/7/25.

Accession Number: 20251107-5122.

Comment Date: 5 p.m. ET 11/28/25.

Docket Numbers: ER26-454-000.

Applicants: PacifiCorp.

Description: 205(d) Rate Filing: Lease Agreement for B2H Transmission Project (RS No. 802) to be effective 12/31/9998.

Filed Date: 11/7/25.

Accession Number: 20251107-5157.

Comment Date: 5 p.m. ET 11/28/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: November 7, 2025.
Debbie-Anne A. Reese,
Secretary.

[FR Doc. 2025-20922 Filed 11-24-25; 8:45 am]

BILLING CODE 6717-01-P